DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Limits on Application of Take Prohibitions.

OMB Control Number: 0648-0399.

Form Number(s): None.

Type of Request: Regular submission.

Number of Respondents: 301.

Average Hours per Response: Research and other applications, and reports of aiding/rescuing salmon, 5 hours; annual reports, 2 hours.

Burden Hours: 1,705.

Needs and Uses: In accordance with Section 4(d) of the Endangered Species Act (ESA), the National Oceanic and Atmospheric Administration (NOAA) promulgates regulations that would prohibit “take” (e.g., harassment or harm) of threatened salmonids. These regulations identify conservation-oriented programs or circumstances in which the ESA's take prohibitions would not apply. States, local governments, and other entities may submit information to demonstrate that a program qualifies to be within those specified programs or circumstances (and therefore would not be subject to the prohibitions).

Affected Public: State, local and tribal government; business and other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 7845, 14th Street and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 1, 2009.
Gwellnar Banks,
Management Analyst, Office of the Chief Information Officer.

[FR Doc. E9-15989 Filed 7-7-09; 8:45 am]

BILLING CODE 3510-22-P